DEPARTMENT OF JUSTICE

Notice of Lodging of Proposed Consent Decree Under the Comprehensive Environmental Response, Compensation, and Liability Act and the Federal Debt Collection Procedures Act

On October 31, 2018, the Department of Justice lodged a proposed Consent Decree with the United States District Court for the Western District of Missouri in the matter entitled United States of America, et al v. Blue Tee Corp., Brown Strauss, Inc., David P. Alldian, Richard A. Secrist, and William M. Kelly Case No. 3:18-cv-5097. The Consent Decree resolves claims against Blue Tee Corp. (“Blue Tee”) and Brown Strauss Inc. (“BSI”) under the Comprehensive Environmental Response, Compensation, and Liability Act (“CERCLA”), 42 U.S.C. 9601 et seq. The claims involved are asserted by the United States on behalf of the Environmental Protection Agency, the Department of Agriculture, and the Department of Interior, and claims are asserted by the states of Colorado, Oklahoma, Missouri, Kansas, Illinois, Montana, Tennessee, and by the Eastern Shawnee Tribe of Oklahoma, the Ottawa Tribe of Oklahoma, the Peoria Tribe of Indians of Oklahoma, the Seneca-Cayuga Nation, the Wyandotte Nation, the Miami Tribe of Oklahoma and the Cherokee Nation (“the Governments”). The Consent Decree also resolves claims against Blue Tee, David P. Alldian, Richard A. Secrist, and William M. Kelly (“D&O Defendants”) under the Federal Debt Collection Procedures Act (“FDCPA”), 28 U.S.C. 3301 et. seq. and similar state and tribal laws. Under the Consent Decree, the Governments will share in payments from the Settling Defendants totaling $75,725,000 which will be allocated on a site by site basis as set forth in the Consent Decree. In this Consent Decree the United States grants covenants not to sue for the following Sites: Old American Zinc Plant, Sauget Industrial Corridor, and Asarco Taylor Springs Sites in Illinois; the Tar Creek Site in Oklahoma; the Cherokee County, Caney Residential Yards, American Zinc, Lead and Smelting Company, Dearing, Neodesha, Owen Zinc, and East La Harpe Smelter Sites in Kansas; the Jasper County and Newton County Sites in Missouri; the Carpenter-Snow Creek Mining Site in Montana; the Klondyke Tailings Site in Arizona; the Bonita Peak and Ouray Sites in Colorado; the Rockwood Iron and Metal Site in Tennessee; and the Anderson-Calhoun Mine & Mill and the Grandview Mine & Mill Sites in Washington. The CERCLA claims arise from the Blue Tee's and BSI's liabilities under Section 107(a) of CERCLA, 42 U.S.C. 9607(a), for costs incurred and to be incurred relating to the sites listed above.

The publication of this notice opens a period for public comment on the Consent Decree. Comments should be addressed to the Assistant Attorney General, Environment and Natural Resources Division, and should refer to United States of America, et al. v. Blue Tee Corp., Brown Strauss, Inc., David P. Alldian, Richard A. Secrist, and William M. Kelly Case No. 3:18-cv-5097, D.J. Ref. No. 90-11-2-330/12. All comments must be submitted no later than thirty (30) days after the publication date of this notice. Comments may be submitted either by email or by mail:

To submit comments: | Send them to:
By email | pubcomment-ees.enrd@usdoj.gov.
By mail | Assistant Attorney General, U.S. DOJ-ENRD, P.O. Box 7611, Washington, DC 20044-7611.

During the public comment period, the Consent Decree may be examined and downloaded at this Justice Department website: https://www.justice.gov/enrd/consent-decrees. We will provide a paper copy of the Consent Decree upon written request and payment of reproduction costs. Please mail your request and payment to: Consent Decree Library, U.S. DOJ-ENRD, P.O. Box 7611, Washington, DC 20044-7611.

Please enclose a check or money order for $10.75 (25 cents per page reproduction cost) payable to the United States Treasury.

Susan M. Akers,
Assistant Section Chief, Environmental Enforcement Section, Environment and Natural Resources Division.

[FR Doc. 2018-24300 Filed 11-6-18; 8:45 am]

BILLING CODE 4410-15-P